DEPARTMENT OF HOUSING AND URBAN DEVELOPMENT

[Docket No. FR-5998-N-03]

60-Day Notice of Proposed Information Collection: Congressional Earmarks

AGENCY: Office of Community Planning and Development (CPD), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 15, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Anupama Abhyankar, Grants Management Specialist, Department of Housing and Urban Development, 451 7th Street SW., Washington, DC 20410; email Anupama Abhyankar at Anupama.Abhyankar@hud.gov or telephone 202-402-3981. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Congressional Earmark Grants.

OMB Approval Number: 2506-0179.

Type of Request: Extension of a currently approved collection.

Form Number: SF-424; SF-LLL; SF-1199A; HUD-27054; SF-425; HUD 27053, HUD-27056.

Description of the need for the information and proposed use: The Department's Office of Policy Development and Coordination administers congressionally mandated grants, known as earmarks. These projects have been identified in the annual appropriation of funds to the Department and in the accompanying conference reports or congressional record accompanying each appropriation. Earmarks generally fall into two categories: Economic Development Initiative-Special Project (EDI-SP) and Neighborhood Initiative (NI) grants.

HUD's Office of Policy Development and Coordination and its Environmental Officers in the field use this information to make funds available to entities directed to receive funds appropriated by Congress. This information is used to collect, receive, review and monitor program activities through applications, semi-annual reports, and close out reports. The information that is collected is used to assess performance. Grantees are units of state and local government, nonprofits and Indian tribes. Respondents are initially identified by congress and generally fall into two categories: Economic Development Initiative-Special Project (EDI-SP) grantees and Neighborhood Initiative (NI) grantees. The agency has used the application, semi-annual reports and close out reports to track grantee performance in the implementation of approved projects.

Respondents (i.e. affected public): 450.

Estimated Number of Respondents: 450.

Estimated Number of Responses: 900.

Frequency of Response: 2.

Average Hours per Response: .50.

Total Estimated Burdens: annual burden hours 450 cost $15,075.

Information collection | Number of respondents | Frequency of response | Responses per annum | Burden hour per response | Annual burden hours | Hourly cost per response | Annual cost
| 450 | 2 | 900 | .5 | 450 | $33.50 | $15,075
Total |  |  |  |  |  |  |

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Date: June 12, 2017.
Clifford Taffet,
General Deputy Assistant Secretary for Community Planning and Development.

[FR Doc. 2017-12572 Filed 6-15-17; 8:45 am]

BILLING CODE 4210-67-P